DEPARTMENT OF HEALTH AND HUMAN SERVICES

National Institutes of Health

Proposed Collection; Comment Requested; Evaluation of National Youth Anti-Drug Media Campaign

SUMMARY: In compliance with section 3506(c)(2)(A) of the Paperwork Reduction Act of 1995, for opportunity for public comment on proposed data collection projects, the National Institute on Drug Abuse of the National Institutes of Health will publish periodic summaries of proposed projects to be submitted to the Office of Management and Budget for review and approval.

Proposed Collection

Title: Evaluation of National Youth Anti-Drug Media Campaign. Type of Information Collection Request: Revision. Need and Use of Information Collection: In 1998, the White House Office of National Drug Control Policy transferred funds to NIDA to conduct an independent, scientifically designed and implemented evaluation of the National Youth Anti-Drug Media Campaign, the first prevention campaign to use paid advertising to discourage youth from drug use. The study is assessing the outcomes and impact of the national campaign in reducing illegal drug use among children and adolescents.

In the first year, two surveys were conducted: (1) The National Survey of Parents and Youth (NSPY), a cross-sectional household survey; and (2) the Community Longitudinal Study of Parents and Youth (CLSPY) in four communities with an ethnographic component. The purpose of this revision is to discontinue the CLSPY and incorporate its longitudinal component into the NSPY to maximize resources and strengthen analytic ability. The revised NSPY will be the first to measure the effectiveness of a media campaign by following a large nationally-representative cohort of parents and children from the same household as they are exposed to a media campaign over time. All data will continue to be collected using a combination of computer-assisted personal interviews (CAPI) and audio computer-assisted self-interviews (ACASI). The findings form the basis of semiannual and annual reports on campaign progress. These reports provide assistance in improving the national campaign, and will help to establish a rich data base of information about the process involved in changing attitudes and behaviors by the mass media.

Frequency of Response: The revised NSPY data collection will continue over a four-year period, ending in June 2003. Each data collection wave will last approximately 6 months. Affected public: Individuals and households. Type of Respondents: Children and parents. The annual reporting burden, which will drop substantially from the original design, is as follows:

Respondent and Burden Estimate
Type of respondents | Estimated number of respondents | Estimated number of responses per respondent | Average burden hours per response | Estimated total burden hours requested | Estimated annualized burden 1/1/01-5/31/02
Revised National Survey of Youth and Parents (Baseline 1/1/01-5/31/01)
Screener Respondent | 15,498 | 1 | .06 | 930 | ¹ 620
Youth 9-11 | 738 | 1 | .60 | 443 | ¹ 295
Teens 12-18 | 1,189 | 1 | .73 | 868 | ¹ 579
Parents | 1,369 | 1 | .92 | 1,259 | ¹ 840
National Survey of Parents and Youth (Longitudinal 1/1/01-5/31/02)
Screener Respondent | 4,739 | 1.2 | .06 | 341 | ³ 227
Youth 9-11 | 1,403 | 1.2 | .60 | 1,010 | ³ 673
Adolescents 12-18 | 4,553 | 1.2 | .90 | 3,934 | ³ 2,622
Parents | 4,334 | 1.2 | .90 | 4,680 | ³ 3,120
Total | ² 33,823 |  | .26 | 13,465 | 8,976
¹ Interviewing of revised NSPY baseline respondents begins 1/01; earlier baseline data collected from 11/99-12/00.
² Some number of screener respondents are later also selected for a parent interview. The exact overlapping proportion cannot be estimated at this time.
³ Follow-up of NSPY respondents from the earlier baseline data collected (11/99-12/00) begins 1/01.

There are no Capital Costs to report. There are no Operating or Maintenance Costs to report. Because of the sensitivity of collecting data from families in households involving children as young as 9 years old, and the importance of minimizing costs for repetitive, return visits to obtain respondent cooperation, IDA provides a reasonable cost incentive to reimburse respondents for their time, as approved by OMB.

Request for Comments: Written comments and/or suggestions from the public and affected agencies are invited on one or more of the following points: (1) Whether the proposed revision in the data collection is necessary for the proper performance of the function of the agency, including whether the information will have practical utility; (2) The accuracy of the agency's estimate of the burden of the proposed revision, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Susan David, Project Officer; Division of Services, Epidemiology and Prevention Research, National Institute on Drug Abuse, Room 5153, MSC 9589, 6001 Executive Blvd., Bethesda, MD 20892-9589; or call non-toll-free number (301) 443-6504; or fax to (301) 443-2636; or email your request, including your address, to: Sdavid@nida.nih.gov.

COMMENTS DUE DATE: Comments regarding this information collection are best assured of having their full effect if received on or before December 18, 2000.

Dated: October 2, 2000.
Laura Rosenthal,
Executive Officer, NIDA.

[FR Doc. 00-26584 Filed 10-16-00; 8:45 am]

BILLING CODE 4140-01-M